DEPARTMENT OF JUSTICE

Notice of Proposed Settlement Agreement Under the Oil Pollution Act and Clean Water Act

Notice is hereby given that the United States of America, on behalf of the Department of the Interior (“DOI”) acting through the U.S. Fish and Wildlife Service and the State of Iowa, acting through the Iowa Department of Natural Resources (“IDNR”) (DOI and IDNR collectively, the “Trustees”), are providing an opportunity for public comment on a proposed Settlement Agreement (“Settlement Agreement”) among the Trustees and Canadian Pacific Railway (“CP”).

The settlement resolves the civil claims of the Trustees against CP arising under their natural resource trustee authority under the Oil Pollution Act of 1990, 33 U.S.C. 2702 and the Clean Water Act, 33 U.S.C. 1321(f)(4) and (5), and applicable state law for injury to, impairment of, destruction of, and loss of, diminution of value of and/or loss of use of natural resources as a result of the February 4, 2015 discharge of 30,000-53,000 gallons of denatured ethanol into and near the Mississippi River near Balltown, Iowa from CP's derailed train (“the Spill”). Under the proposed Settlement Agreement, CP agrees to pay $282,391 to the DOI Natural Resource Damage Assessment and Restoration Fund to be used for restoration activities to compensate the public for recreational and aquatic injuries. CP will receive from the Trustees a covenant not to sue for the claims resolved by the settlement.

The publication of this notice opens a period for public comment on the proposed Settlement Agreement. Comments on the proposed Settlement Agreement should be addressed to the Assistant Attorney General, Environment and Natural Resources Division and should refer to the CP Settlement Agreement, DJ No. 90-11-3-10260/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $2.50 (25 cents per page reproduction cost) payable to the United States Treasury.

Susan M. Akers,
Assistant Section Chief, Environmental Enforcement Section, Environment and Natural Resources Division.

[FR Doc. 2021-04082 Filed 2-26-21; 8:45 am]

BILLING CODE 4410-15-P